DEPARTMENT OF LABOR

Employment and Training Administration

Notice of Intent To Renew the Advisory Committee on Apprenticeship (ACA) Charter

AGENCY: Employment and Training Administration (ETA), Labor.

ACTION: Notice.

SUMMARY: The Secretary of Labor has determined that the renewal of the Advisory Committee on Apprenticeship is necessary and in the public interest. The Department of Labor intends to renew the ACA Charter with revisions. The revisions are not intended to change the purpose or the Committee's original intent. The revisions are a routine updating of the Charter to ensure closer alignment with the Department's current apprenticeship expansion goals.

FOR FURTHER INFORMATION CONTACT: The Designated Federal Official, Mr. John V. Ladd, Administrator, Office of Apprenticeship, Employment and Training Administration, U.S. Department of Labor, 200 Constitution Avenue NW., Room N-5311, Washington, DC 20210, Telephone: (202) 693-2796 (this is not a toll-free number).

SUPPLEMENTARY INFORMATION: Registered Apprenticeship is a unique public private partnership that is highly dependent on the engagement and involvement of its stakeholders and partners for its ongoing operational effectiveness. Apart from the ACA, there is no single organization or group with the broad representation of labor, employers, and the public available to consider the complexities and relationship of apprenticeship activities to other training efforts or to provide advice on such matters to the Secretary. It is particularly important to have such considerations at this time in light of the current national interest in apprenticeship and the Department of Labor's goal to double the number of apprentices across the country, in the next five years by expanding into a variety of non-traditional industries. The ACA's insight and recommendations on the best ways to grow apprenticeship to meet the emerging skill needs of employers is critical. For these reasons, the Secretary of Labor has determined that the renewal of a national advisory committee on apprenticeship is necessary and in the public interest. The ACA Charter is being renewed to provide advice and recommendations to the Secretary on the following: (1) The development and implementation of policies, legislation and regulations affecting the National Registered Apprenticeship system; (2) strategies that can expand the use of the Registered Apprenticeship model in non-traditional industries such as, but not limited to, Transportation/Logistics, Healthcare, Energy, Advanced Manufacturing, and Information Technology and Communications; (3) ways to more effectively partner with the public workforce system and educational institutions and communities to leverage Registered Apprenticeship as a valued post-secondary credential; including policies related to the Registered Apprenticeship College Consortium; (4) the development of career pathways that can lead to good jobs for everyone and sustained employment for new and incumbent workers, youth, Veterans, women, minorities and other under-utilized and disadvantaged populations; and (5) efforts to improve performance, quality and oversight, and utilization of the National Registered Apprenticeship system. The current ACA Charter will expire on January 15, 2017. The ACA's Charter is required to be renewed every two years. Since the Charter was last renewed in January 2013, it has been revised in three sections to ensure alignment with departmental priorities. The following three sections have been updated (1) Objectives and Scope of Activities; (2) Estimated Annual Operating Cost and Staff Years; and (3) Membership and Designation.

Summary of the Changes

1. Objectives and Scope of Activities—The objectives and scope section of the ACA Charter outlines the areas of focus where the ACA will provide advice and recommendations. The current ACA Charter states that the ACA will advise on strategies to expand apprenticeship into the Manufacturing, Energy, and the Healthcare industries. The proposed ACA Charter is being updated to reflect the industries currently being targeted for expansion and now includes Transportation/Logistics, Healthcare, Energy, Advanced Manufacturing, and Information Technology and Communications industries.

2. Estimated Annual Operating Cost and Staff Years—The operating costs in the proposed Charter are being increased to account for increases in travel costs, resulting from an increase in the number of ACA members from outside of the Washington, DC metropolitan area. Further cost have been updated to more accurately account for the decrease in contractor support and the subsequent increase in federal staff time utilized to support the ACA, as well as, the participation of its ex-officio federal members.

3. Membership and Designation—Given the apprenticeship expansion efforts, the ACA representatives will be balanced in terms of (1) points of view, (2) sectors (employers, labor and public), and (3) industries targeted for expansion. Therefore, the range of voting members is being increased from 24-27 members to 27-30 members to provide the flexibility to ensure balance is maintained and all the necessary stakeholder groups are represented. In addition, the current ACA Charter states that the ACA may consult with industry experts and others as appropriate. The proposed ACA Charter includes language to affirm that the ACA will consult with industry experts, and further clarifies that they will specifically consult with experts from the industries that are being targeted for apprenticeship expansion.

Portia Wu,
Assistant Secretary for the Employment and Training Administration.

[FR Doc. 2015-00470 Filed 1-13-15; 8:45 am]

BILLING CODE 4510-FR-P